DEPARTMENT OF ENERGY

International Energy Agency Meeting

AGENCY: Department of Energy.

ACTION: Notice of meeting.

SUMMARY: The Industry Advisory Board (IAB) to the International Energy Agency (IEA) will meet on January 21-22, 2004, at the Taj Mahal Hotel, 1 Mansingh Road, New Delhi, India 110 011, in connection with an IEA-India Workshop on Emergency Oil Stock Issues.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held on January 21-22, 2004, in connection with an IEA-India Workshop on Emergency Oil Stock Issues, to be held at The Taj Mahal Hotel, 1 Mansingh Road, New Delhi, India 110 011, commencing on January 21 at 9 a.m. The purpose of this notice is to permit attendance by representatives of U.S. company members of the IAB at the IEA-India Workshop.

The agenda for the Workshop is under the control of the IEA. It is expected that the IEA will adopt the following agenda:

1. Opening Remarks

—Welcome Address and Introduction to the Workshop

—Opening Statement by the IEA: Major Oil Security Challenges and Role of Emergency Stocks in World Oil Market

2. Session 1: Global and Regional Oil Security Challenges

—India's Energy Security Challenges

—Risks in the Current Oil Market and Implications on Economy

—Case Study on the U.S. Oil Disruption Simulation Model

—Industry's Views on Oil Supply Risks in the Current Market

—India's Efforts to Build Strategic Stocks: Current Situation and New Steps

3. Session 2: The IEA's Oil Crisis Management Experience

—IEA's Oil Crisis Management Experience

—IEA Member Countries' Stockholding Models

—Government Stocks: United States

—Agency Stocks: Germany

—Company Stocks: United Kingdom

4. Session 3: IEA Member Countries' Emergency Oil Stocks

—Overview of Emergency Stockholding in IEA Member Countries

—Government Stock Model

—Legislation: Japanese Case—Reform of Japan National Oil Corporation

—Financing Scheme: U.S. Case—Strategic Petroleum Reserve

—Agency Stock Model

—Legislation: German Case—Building an Independent Stockholding Agency

—Legislation: Czech Republic Case—Policy and Institutional Set-up

—Financing Scheme: Dutch Case—Financing of Stockholding

—Financing Scheme: Hungarian Case—Establishing the Crude Oil and Product Stockholding Association

—Mandatory Company Stock Model

—Legislation: U.K. Case—Maintaining and Mobilizing Company Stocks

—Financing Scheme: A Major Company's Experience in Managing Commercial and Strategic Oil Stocks

—Government and Mandatory Company Stock Model

—Legislation: French Case—Government-Industry Relationship

—Financing Scheme: Korean Case—Financing Schemes for Emergency Stocks and Emergency Operations

5. Closing Session: Looking Forward

—Identification of Areas for Future Cooperation

—Closing Remarks

As provided in section 252(c)(1)(A)(ii) of the Energy Policy and Conservation Act (42 U.S.C. 6272(c)(1)(A)(ii)), the meeting of the IAB is open to representatives of members of the IAB and their counsel; representatives of members of the IEA's Standing Group on Emergency Questions (SEQ); representatives of the Departments of Energy, Justice, and State, the Federal Trade Commission, the General Accounting Office, Committees of Congress, the IEA, and the European Commission; and invitees of the IAB, the SEQ, or the IEA. The expected participants at the IEA-India Workshop include representatives from the Indian Ministry of Petroleum and other related governmental bodies, oil companies, and research institutes; representatives of IEA Member Countries, including the United States; representatives of the IEA Secretariat; and representatives of members of the IAB.

Issued in Washington, DC, January 5, 2004.
Samuel M. Bradley,
Assistant General Counsel for International and National Security Programs.

[FR Doc. 04-572 Filed 1-9-04; 8:45 am]

BILLING CODE 6450-01-P